DEPARTMENT OF AGRICULTURE

Forest Service

Roadless Area Conservation National Advisory Committee

AGENCY: Forest Service, USDA.

ACTION: Notice.

SUMMARY: The Roadless Area Conservation National Advisory Committee (Committee) will meet in Washington, DC. The purpose of this meeting is to review and draft recommendations to the Secretary of Agriculture on state petitions for inventoried roadless area management. Petitions to be reviewed include those received from Virginia, North Carolina, and possibly any petitions received between the publication of this notice and meeting dates.

DATES: The meeting will be held May 8-9, 2006, from 8 a.m. to 5 p.m each day.

ADDRESSES: The meeting will be held at the Forest Service's headquarters: Sydney R. Yates Federal Building, 201 14th Street, SW., Washington, DC 20250.

FOR FURTHER INFORMATION CONTACT: Committee Coordinator, Garth Smelser, at gsmelser@fs.fed.us or (202) 205-0992, USDA Forest Service, 1400 Independence Avenue, SW., Mailstop 1104, Washington, DC 20250.

Individuals who use telecommunication devices for the deaf (TDD) may call the Federal Information Relay Service (FIRS) at 1-800-877-8339 between 8 a.m. and 8 p.m., Eastern Standard Time, Monday through Friday.

SUPPLEMENTARY INFORMATION: The state petitions scheduled for review and other relevant meeting materials will be available online at www.roadless.fs.fed.us.

The meeting is open to the public and interested parties are invited to attend. Building security requires you to provide your name to the Committee Coordinator by May 1, 2006. You will need photo identification to enter the building. Due to limited seating, public attendance will be offered on a first-come, first-served basis.

While meeting discussion is limited to Forest Service staff and Committee members, the public will be allowed to offer written and oral comments for the Committee's consideration. Because of the limited time and space, those wishing to offer their comments to the Committee are strongly encouraged to submit written statements for the Committee's review. Written comments should be addressed to the Roadless Area Conservation National Advisory Committee Chair and mailed to: USDA Forest Service, ATTN: Roadless Advisory Committee Chair, 1400 Independence Avenue, SW., Mailstop 1104, Washington, DC 20250.

Attendees wishing to comment orally will be allotted a specific amount of time—based on the number of speakers—to address the Committee on May 8, 2006. To offer oral comments on this day, contact the Committee Coordinator, Garth Smelser, at gsmelser@fs.fed.us or (202) 205-0992.

Both oral and written comments should (1) specifically address the state petition(s) being reviewed, (2) focus on the basis for agreement/disagreement with a petition, and (3) if in disagreement, recommend an alternative. All public comment will become a permanent part of the official meeting record and, therefore, be made available to the public.

Dated: April 4, 2006.
Frederick Norbury,
Associate Deputy Chief, NFS.

[FR Doc. E6-5268 Filed 4-10-06; 8:45 am]

BILLING CODE 3410-11-P